FEDERAL MARITIME COMMISSION

Ocean Transportation Intermediary License; Revocations

The Federal Maritime Commission hereby gives notice that the following Ocean Transportation Intermediary licenses have been revoked pursuant to section 40901 of the Shipping Act of 1984 (46 U.S.C. 40101) effective on the corresponding date shown below:

License Number: 1942F.

Name: Kosta International Corp.

Address: 3900 NW 79th Avenue, Suite 640, Miami, FL 33166.

Date Revoked: May 11, 2012.

Reason: Failed to maintain a valid bond.

License Number: 2980F.

Name: General Express Management Corporation dba G.E.M. Corp. dba G.E.M. Corporation.

Address: 2458 Center Gate Drive, Suite 102, Miramar, FL 33025.

Date Revoked: May 18, 2012.

Reason: Failed to maintain a valid bond.

License Number: 17329F.

Name: Mares-Shreve and Associates, Inc.

Address: 1035 Andover Park West, Suite 110, Tukwila, WA 98188.

Date Revoked: May 12, 2012.

Reason: Failed to maintain a valid bond.

License Number: 018981NF.

Name: Bekins Independence Forwarders, Inc. dba Bekins International.

Address: 330 South Mannheim Road, Hillside, IL 60192.

Date Revoked: May 9, 2012.

Reason: Failed to maintain a valid bond.

License Number: 022797N.

Name: Lupprian's Cargo Express, Inc.

Address: 700 Nicholas Blvd., Suite 401, Elk Grove Village, IL 60007.

Date Revoked: May 11, 2012.

Reason: Failed to maintain a valid bond.

Vern W. Hill,
Director, Bureau of Certification and Licensing.

[FR Doc. 2012-15700 Filed 6-26-12; 8:45 am]

BILLING CODE 6730-01-P